DEPARTMENT OF THE INTERIOR

Bureau of Indian Affairs

Amendment to Pueblo of Laguna Liquor Control Ordinance

AGENCY: Bureau of Indian Affairs, Interior.

ACTION: Notice.

SUMMARY: This Notice is published in accordance with authority delegated by the Secretary of the Interior to the Assistant Secretary—Indian Affairs by 209 DM 8, and in accordance with the Act of August 15, 1953, 67 Stat. 586, 18 U.S.C. 1161, as interpreted by the Supreme Court in Rice v. Rehner, 463 U.S. 713 (1983). I certify that Resolution No. 49-99 of the Pueblo of Laguna was duly adopted by the Pueblo of Laguna Tribal Council on August 11, 1999. This Amendment to the Pueblo of Laguna Liquor Control Ordinance regulates the issuance of licenses for the sale of alcohol beverages in package or by the drink for consumption on the premises and for the sale of liquor on Sunday or any tribal, state or federal election day to the same extent authorized by the State of New Mexico.

DATES: This Amendment is effective as of June 1, 2000.

FOR FURTHER INFORMATION CONTACT: Jim D. James, Office of Tribal Services, 1849 C Street, NW, MS-4660-MIB, Washington, DC 20240-4001; telephone (202) 208-4400.

SUPPLEMENTARY INFORMATION: The amendments to the Pueblo of Laguna Liquor Control Ordinance, Resolution No. 49-99, shall read as follows:

Section 5 (C): “Authorized sales. Liquor may be sold in package or by the drink for consumption on the premises as determined in the sole discretion of the Tribal Council. The license or permit issued shall state whether the license or permit authorizes package sales and/or liquor by the drink sales and if the permit authorizes liquor by the drink whether or not the license is limited to a particular type or types of liquor,” and;

Section 5 (E): “Sunday and Election Day Sales. Sale of liquor may be allowed on Sunday or any tribal, state or federal election day to the same extent authorized by the State of New Mexico. No sales should be allowed on any day or any time determined by the Tribal Council that liquor sales shall be prohibited.”

Dated: May 23, 2000.
Kevin Gover,
Assistant Secretary—Indian Affairs.

[FR Doc. 00-13612 Filed 5-31-00; 8:45 am]

BILLING CODE 4310-02-P